DEPARTMENT OF HEALTH AND HUMAN SERVICES

Food and Drug Administration

[Docket No. FDA-2010-N-0067]

Pharmaceutical Science and Clinical Pharmacology Advisory Committee; Notice of Meeting; Correction

AGENCY: Food and Drug Administration, HHS.

ACTION: Notice; correction.

SUMMARY: The Food and Drug Administration is correcting a notice entitled “Pharmaceutical Science and Clinical Pharmacology Advisory Committee; Notice of Meeting” that appeared in the Federal Register of November 29, 2016 (81 FR 85978). The document announced the forthcoming public advisory committee meeting of the Pharmaceutical Science and Clinical Pharmacology Advisory Committee. The document was published with an error in the DATES section. This document corrects that error.

FOR FURTHER INFORMATION CONTACT: Jennifer Shepherd, Center for Drug Evaluation and Research, Food and Drug Administration, 10903 New Hampshire Ave., Bldg. 31, Rm. 2417, Silver Spring, MD 20993-0002, 301-796-9001, FAX: 301-847-8533, email: ACPS-CP@fda.hhs.gov, or FDA Advisory Committee Information Line, 1-800-741-8138 (301-443-0572 in the Washington, DC area). A notice in the Federal Register about last minute modifications that impact a previously announced advisory committee meeting cannot always be published quickly enough to provide timely notice. Therefore, you should always check the Agency's Web site at http://www.fda.gov/AdvisoryCommittees/default.htm and scroll down to the appropriate advisory committee meeting link, or call the advisory committee information line to learn about possible modifications before coming to the meeting.

SUPPLEMENTARY INFORMATION:

In the Federal Register of Tuesday, November 29, 2016, in FR Doc. 2016-28723, the following correction is made:

On page 85978, in the third column, in the DATES section, the following sentence is to be inserted after the first sentence: “FDA is opening a docket for public comment on this meeting. The docket number is FDA-2010-N-0067. The docket will open for public comment on December 28, 2016. The docket will close on April 14, 2017.”

Dated: December 22, 2016.
Leslie Kux,
Associate Commissioner for Policy.

[FR Doc. 2016-31391 Filed 12-27-16; 8:45 am]

BILLING CODE 4164-01-P